DEPARTMENT OF TRANSPORTATION

Federal Aviation Administration

14 CFR Part 39

[Docket No. FAA-2010-1125; Directorate Identifier 2008-SW-40-AD; Amendment 39-16512; AD 2010-23-22]

RIN 2120-AA64

Airworthiness Directives; Eurocopter France (Eurocopter) Model AS332L2 Helicopters

AGENCY: Federal Aviation Administration (FAA), Department of Transportation (DOT).

ACTION: Final rule; request for comments.

SUMMARY: We are adopting a new airworthiness directive (AD) for the Eurocopter Model AS332L2 helicopters. This AD results from a mandatory continuing airworthiness information (MCAI) AD issued by the European Aviation Safety Agency (EASA), which is the Technical Agent for the Member States of the European Community. The MCAI AD states that a hard landing occurred during in-flight engine failure (one engine inoperative (OEI)) training. An examination revealed the failure of the right-hand main reduction gear module (module) freewheel unit due to excessive wear on some of its components. The MCAI AD prohibits engine failure OEI training with helicopters on which certain main gearbox (MGB) modules with certain freewheel shafts are installed and mandates the replacement of those modules. The actions are intended to prevent failure of certain freewheel units, loss of power to the main rotor system, and subsequent loss of control of the helicopter.

DATES: This AD becomes effective on December 1, 2010.

We must receive comments on this AD by January 18, 2011.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (972) 641-3460, fax (972) 641-3527, or at http://www.eurocopter.com.

Examining the Docket: You may examine the AD docket on the Internet at http://www.regulations.gov or in person at the Docket Operations office between 9 a.m. and 5 p.m., Monday through Friday, except Federal holidays. The AD docket contains this AD, any comments received, and other information. The street address for the Docket Operations office (telephone (800) 647-5527) is stated in the ADDRESSES section of this AD. Comments will be available in the AD docket shortly after receipt.

FOR FURTHER INFORMATION CONTACT: Eric Haight, Aviation Safety Engineer, FAA, Rotorcraft Directorate, Regulations and Policy Group, Fort Worth, Texas 76193-0111, telephone (817) 222-5204, fax (817) 222-5961.

SUPPLEMENTARY INFORMATION:

Discussion

EASA has issued AD No. 2007-0312-E, dated December 21, 2007, to correct an unsafe condition for the Eurocopter Model AS332L2 helicopters. The MCAI AD prohibits engine failure OEI training for helicopters with MGB modules installed with certain freewheel shafts, mandates inspection of each freewheel shaft at an approved repair station, and mandates replacement if necessary. The MCAI AD also mandates inserting the information prohibiting engine failure OEI training into the Limitations section of the Rotorcraft Flight Manual (RFM). The MCAI AD was issued following a hard landing, which occurred during in-flight engine failure OEI training after failure of a freewheel unit. In case of a freewheel unit failure on one of the two MGB inputs, either inadvertently or as part of OEI training, the resulting load on the remaining MGB freewheel unit may result in failure of the second freewheel unit. The actions are intended to prevent failure of a freewheel unit and subsequent loss of control of the helicopter.

You may obtain further information by examining the MCAI AD and the related service information in the AD docket.

Related Service Information

Eurocopter has issued Emergency Alert Service Bulletin No. 01.00.74, dated December 20, 2007, for the Model AS332L2 helicopters, which specifies the need for prohibiting OEI training in certain helicopters with certain freewheel shafts installed in certain MGB main reduction gear modules until those modules with those freewheel shafts are replaced. The actions described in the MCAI AD are intended to correct the same unsafe condition as that identified in the service information.

FAA's Evaluation and Unsafe Condition Determination

The Eurocopter Model AS332L2 helicopters have been approved by the aviation authority of France and are approved for operation in the United States. Pursuant to our bilateral agreement with France, EASA, their technical agent, has notified us of the unsafe condition described in the MCAI AD. We are issuing this AD because we evaluated all information provided by EASA and determined the unsafe condition exists and is likely to exist or develop on other Model AS332L2 helicopters of the same type design.

There are no products of this type currently registered in the United States. However, this rule is necessary to ensure that the described unsafe condition is addressed if any of these products are placed on the U.S. Registry in the future.

Differences Between This AD and the MCAI AD

We refer to flight hours as hours time-in-service (TIS). We require replacing each MGB module, listed in the applicability of this AD, within 40 hours TIS rather than using 40 hours TIS for some parts and 200 hours TIS for other parts. Also, we do not use the dates listed in the MCAI AD because the dates have passed.

Costs of Compliance

There are no costs of compliance since there are no helicopters of this type design on the U.S. Registry.

FAA's Determination of the Effective Date

Since there are currently no affected U.S. registered helicopters, we have determined that notice and opportunity for prior public comment before issuing this AD are unnecessary and that good cause exists for making this amendment effective in less than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2010-1125; Directorate Identifier 2008-SW-40-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-23-22 Eurocopter France: Amendment 39-16512. Docket No. FAA-2010-1125; Directorate Identifier 2008-SW-40-AD.

Effective Date

(a) This airworthiness directive (AD) becomes effective on December 1, 2010.

Other Affected ADs

(b) None.

Applicability

(c) This AD applies to Model AS332L2 helicopters, certificated in any category, with a freewheel shaft, part number (P/N) 332A32-2190-25, with No. 1 and No. 2 serial numbered shafts installed on a main gearbox (MGB) main reduction gear module (main module), with a P/N and serial number (S/N), as listed in the following table.

Table—MGB Main Modules, With
No. 1 and No. 2 Freewheel Shaft S/N | Installed on main module P/N & S/N
M1608, M945 | 332A32-3011-03M and M2062.
M1078, M1087 | 332A32-3011-03M and M2088.
M1272, M1273 | 332A32-3011-03M and M2104.
M1688, M974 | 332A32-3011-03M and M2016.
M1231, M937 | 332A32-3011-03M and M2079.
M1115, M635 | 332A32-3011-03M and M4001.
M1159, M907 | 332A32-3011-03M and M4004.
M1124, M486 | 332A32-3011-01M and M2044.

Reason

(d) The MCAI AD states that a hard landing occurred during in-flight engine failure (one engine inoperative (OEI)) training. An examination of the main gearbox (MGB) revealed the failure of the right-hand freewheel unit was due to excessive wear on some of its components. The MCAI AD prohibits engine failure OEI training with helicopters on which certain MGB modules with certain freewheel shafts are installed and mandates the replacement of those modules. The actions are intended to prevent failure of certain freewheel units, loss of power to the main rotor system, and subsequent loss of control of the helicopter.

Actions and Compliance

(e) Before further flight, unless already accomplished, insert the following limitation into the Limitations section of the Rotorcraft Flight Manual (RFM): “Engine failure (one-engine inoperative (OEI)) training is prohibited.” You may comply with this requirement by making pen and ink changes to the Limitations section of the RFM or by inserting a copy of this AD into the Limitations section of the RFM.

(f) Within 40 hours time-in-service (TIS) or if an engine in-flight shut down occurs, whichever occurs first, replace the MGB main module with an airworthy main module that does not have a freewheel shaft S/N listed in the applicability of this AD.

(g) After complying with paragraph (f) of this AD, remove the limitation required by paragraph (e) of this AD from the RFM.

Differences Between This AD and the MCAI AD

(h) We refer to flight hours as hours TIS. We require replacing each MGB module, listed in the applicability of this AD, within 40 hours TIS rather than using 40 hours TIS for some parts and 200 hours TIS for other parts. Also, we do not use the dates listed in the MCAI AD because those dates have passed.

Other Information

(i) Alternative Methods of Compliance (AMOCs): The Manager, Safety Management Group, FAA, ATTN: Eric Haight, Aviation Safety Engineer, Rotorcraft Directorate, Regulations and Policy Group, Fort Worth, Texas 76193-0111, telephone (817) 222-5204, fax (817) 222-5961, has the authority to approve AMOCs for this AD, if requested using the procedures found in 14 CFR 39.19.

Related Information

(j) European Aviation Safety Agency (EASA) MCAI AD No. 2007-0312-E, dated December 21, 2007, and Eurocopter Emergency Alert Service Bulletin No. 01.00.74, dated December 20, 2007, contain related information.

Joint Aircraft System/Component (JASC) Code

(k) The JASC Code is 6300: Limitations—Main Rotor Drive System.

Issued in Fort Worth, Texas, on November 1, 2010.
Kim Smith,
Manager, Rotorcraft Directorate, Aircraft Certification Service.

[FR Doc. 2010-28452 Filed 11-15-10; 8:45 am]

BILLING CODE 4910-13-P